DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 14, 2017.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on October 31, 2017.
Donald Burger,
Chief, General Approvals and Permits Branch.

Application No. | Docket No. | Applicant | Regulation(s) affected | Nature of the special permits thereof
SPECIAL PERMITS DATA
20556-N |  | SAFT AMERICA INC | 172.101(j) | To authorize the transportation in commerce of lithium ion batteries in excess of 35 kg by cargo-only aircraft. (Mode 4)
20557-N |  | XCALIBUR LOGISTICS, LLC | 180.407(b)(5), 180.407(c) | To authorize the transportation in commerce of petroleum crude oil in cargo tanks which are overdue for inspection. (Mode 1)
20559-N |  | FIREAWAY INC | 172.400, 172.500, 172.200, 172.300 | To authorize the transportation in commerce of explosives without marking, labeling or placarding. (Modes 1, 2, 3, 4)
20560-N |  | CYTEC INDUSTRIES INC | 172.400, 172.200, 172.301, 173.213 | To authorize the transportation in commerce of phosphorus contained in manufactured articles in non-DOT specification packaging without certain hazard communication. (Mode 1, 4, 5)
20564-N |  | ACE Pyro, LLC | 177.848(g)(3)(vi) | To authorize the transportation in commerce of fireworks with explosive articles of compatibility group G. (Mode 1)
20566-N |  | UNIVERSITY OF LOUISIANA AT LAFAYETTE | 173.199(a) | To authorize the transportation in commerce of live animals containing category B infectious substances. (Mode 1)
20567-N |  | OMNI TANKER PTY. LTD | 107.503(b), 107.503(c), 172.102(c)(3), 172.203(a), 173.241, 173.242, 173.243, 178.345-1, 178.347-1, 178.348-1, 180.405, 180.413(d) | To authorize the manufacture, mark, sale, and use of non-DOT specification cargo tanks and cargo tank motor vehicles. (Mode 1)
20571-N |  | CATALINA CYLINDERS, INC | 173.302a, 178.71(l)(1)(i), 178.71(l)(1)(ii) | To authorize the manufacture, mark, sale, and use of non-DOT specification cylinders meeting the requirements of ISO 11119-2, except as specified in the special permit. (Modes 1, 2, 3, 4)
20573-N |  | SIEMENS WIND POWER, INC | 173.222(c) | To authorize the transportation in commerce of dangerous goods in machinery or apparatus in quantities greater than those authorized in 173.222. (Modes 1, 3)
20574-N |  | ROGUE VALLEY TERMINAL RAILROAD CORPORATION | 174.14(a) | To authorize the transportation in commerce of railcars containing hazardous materials without being subject to expedited movement requirements. (Mode 2)
20575-N |  | WORTHINGTON CYLINDER CORPORATION | 173.302(a) | To authorize the manufacture, mark, sale, and use of non-DOT specification cylinders. (Modes 1, 2, 3, 4, 5)
20576-N |  | CYLINDER TESTING SOLUTIONS LLC | 172.203(a), 172.301(c), 180.205 | To authorize the use of Specification DOT 3AL cylinders used for the transportation in commerce of certain compressed gases, when retested by a 100% ultrasonic examination in lieu of the internal visual and the hydrostatic retest required in 49 CFR 180.205. (Modes 1, 2)
20577-N |  | PETROLEUM HELICOPTER, INC | 175.700(a) | To authorize the transportation in commerce of Class 7 materials aboard passenger-carrying aircraft. (Mode 5)
20578-N |  | JAMES ALEXANDER CORP | 172.101(j), 173.27(b) | To authorize the transportation in commerce of articles containing 40-60% hydrogen peroxide by aircraft. (Modes 4, 5)
20579-N |  | CARLETON TECHNOLOGIES, INC | 173.302(a) | To authorize the manufacture, mark, sale, and use of non-refillable, non-DOT specification cylinders intended to contain oxygen, compressed. (Modes 1, 2, 3, 4, 5)

[FR Doc. 2017-24566 Filed 11-13-17; 8:45 am]

BILLING CODE 4910-60-P